DEPARTMENT OF AGRICULTURE

Forest Service

Information Collection; Forest Products Removal Permits and Contracts

AGENCY: Forest Service, USDA.

ACTION: Notice; request for comment.

SUMMARY: In accordance with the Paperwork Reduction Act of 1995, the Forest Service is seeking comments from all interested individuals and organizations on the extension with no revision of a currently approved information collection, Forest Products Removal Permits and Contracts.

DATES: Comments must be received in writing on or before October 17, 2011 to be assured of consideration. Comments received after that date will be considered to the extent practicable.

ADDRESSES: Comments concerning this notice should be addressed to Sharon Nygaard-Scott, Forest Management Staff, Forest Service, USDA, Mail Stop 1103, 1400 Independence Avenue, SW., Washington, DC 20250.

Comments also may be submitted via facsimile to 202-205-1045 or by e-mail to forest_products_forms@fs.fed.us. In addition, comments may be submitted via the world wide web/Internet at: http://www.regulations.gov.

The public may inspect comments received at the Forest Service, Forest Management Staff Office, Third Floor SW., 201 14th Street, SW., Washington, DC 20250 during normal business hours. Visitors are encouraged to call ahead to 202-205-1766 to facilitate entrance into the building.

FOR FURTHER INFORMATION CONTACT: Sharon Nygaard-Scott, Forest Management Staff, at 202-205-1766, or Richard Fitzgerald, Forest Management Staff, at 202-205-1753. Individuals who use telecommunication devices for the deaf (TDD) may call the Federal Relay Service (FRS) at 1-800-877-8339, 24 hours a day, every day of the year, including holidays.

SUPPLEMENTARY INFORMATION:

Title: Forest Products Removal Permits and Contracts.

OMB Number: 0596-0085.

Expiration Date of Current Approval: January 31, 2012.

Type of Request: Extension with no revision of a currently approved collection.

Abstract: Under 16 U.S.C. 551, individuals planning to remove forest products from the National Forests must obtain a permit. To obtain a permit, applicants must meet the criteria at 36 CFR 223.1, 223.2, and 223.5-223.13, which authorizes free use or sale of timber or forest products. Upon receiving a permit, the permittee must comply with the terms of the permit (36 CFR 261.6), which designates forest products that can be harvested and under what conditions, such as limiting harvest to a designated area or permitting harvest of only specifically designated material. The collected information will help the Forest Service and the Bureau of Land Management (for form FS-2400-1) oversee the approval and use of forest products by the public.

When applying for forest product removal permits, applicants (depending on the products) must complete one of the following:

• FS-2400-1, Forest Products Removal Permit and Cash Receipt, is used to sell timber or forest products such as fuelwood, Christmas trees, or pine cones (36 CFR 223.1, 223.2). The Bureau of Land Management (BLM) and the Forest Service share this form, which the Bureau of Land Management identifies as BLM-5450-24 (43 U.S.C. 1201, 43 CFR 5420).

• FS-2400-4, Forest Products Contract and Cash Receipt, is used to sell timber products such as sawtimber or forest products such as fuelwood.

• FS-2400-8, Forest Products Free Use Permit, allows use of timber or forest products at no charge to the permittee (36 CFR 223.5-223.13).

Each form listed above implements different regulations and has different provisions for compliance, but collects similar information from the applicant for related purposes.

The Forest Service and the Bureau of Land Management will use the information collected on form FS-2400-1 to ensure identification of permittees in the field by agency personnel. The Forest Service will use the information collected on forms FS-2400-4 and FS-2400-8 to:

• Ensure that permittees obtaining free use of timber or forest products qualify for the free-use program and do not receive product value in excess of that allowed by regulations (36 CFR 223.8).

• Ensure that applicants purchasing timber harvest or forest products permits non-competitively do not exceed the authorized limit in a fiscal year (16 U.S.C. 472(a)).

• Ensure identification of permittees in the field by Forest Service personnel.

Applicants may apply for more than one forest products permit or contract per year. For example, an applicant may obtain a free use permit for a timber product such as pine cones (FS-2400-8) and still purchase fuelwood (FS-2400-4).

Individuals and small business representatives usually request and apply for permits and contracts in person at the office issuing the permit. Applicants provide the following information:

• Name.

• Address.

• Personal identification number such as tax identification number, social security number, driver's license number, or other unique number identifying the applicant.

Agency personnel enter the information into a computerized database to use for subsequent requests by individuals and businesses for a forest product permit or contract. The information is printed on paper, which the applicant signs and dates. Agency personnel discuss the terms and conditions of the permit or contract with the applicant.

The data gathered is not available from other sources. The collected data is used to ensure:

• Applicants for free use permits meet the criteria for free use of timber or forest products authorized by regulations at 36 CFR 223.5-113.13,

• Applicants seeking to purchase and remove timber of forest products from Agency lands meet the criteria under which sale of timber or forest products is authorized by regulations at 36 CFR 223.80, and

• Permittees comply with regulations and terms of the permit at 36 CFR 261.6.

The collection of this information is necessary to ensure that applicants meet the requirements of the forest products program; those obtaining free-use permits for forest products qualify for the program; applicants purchasing non-competitive permits to harvest forest products do not exceed authorized limits; and that Federal Agency employees can identify permittees when in the field.

Estimate of Annual Burden: 5 minutes.

Type of Respondents: Individuals and small businesses.

Estimated Annual Number of Respondents: 226,500.

Estimated Annual Number of Responses per Respondent: 2.

Estimated Total Annual Burden on Respondents: 38,000.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: August 8, 2011.
James M. Pena,
Associate Deputy Chief, NFS.

[FR Doc. 2011-20717 Filed 8-15-11; 8:45 am]

BILLING CODE 3410-11-P